DEPARTMENT OF HEALTH AND HUMAN SERVICES

Centers for Disease Control and Prevention

[30Day-11-0106]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Preventive Health and Health Services Block Grant (OMB No. 0920-0106, exp. 8/31/2011)—Revision—National Center for Chronic Disease Prevention and Health Promotion (NCDDPHP), Centers for Disease Control and Prevention (CDC).

Background and Brief Description

The Preventive Health and Health Services Block Grant program provides awardees with their primary source of flexible funding for health promotion and disease prevention programs. Sixty-one awardees (50 states, the District of Columbia, two American Indian Tribes, and eight U.S. territories) currently receive block grants from CDC in order to address locally-defined public health needs in innovative ways. Block Grants allow awardees to prioritize the use of funds to fill funding gaps in programs that deal with the leading causes of death and disability. Block Grants also improve awardees' ability to respond rapidly to emerging health issues.

CDC currently collects standardized application and performance information from each awardee through a web-based system called the Block Grant Management Information System (BGMIS). As required by the authorizing legislation for the Block Grant program, the BGMIS collects information by the areas described in Healthy People National Health Objectives, and improves adherence to its goals. The BGMIS requires awardees to enter their objectives in SMART (Specific, Measurable, Achievable, Realistic, and Time-based) format, and to use evidence based guidelines and best practices as the basis for public health programs and interventions. Finally, the BGMIS information collection includes a Compliance Review section, which provides feedback to each awardee pertaining to its past reviews.

Information will be collected from awardees twice per year, once for the annual Work Plan, and once for the Annual Report. CDC will continue to use the information collected from Block Grant awardees to provide oversight and direction to recipients and to inform CDC management, decision makers, and the general public about PHHS Block Grant allocations, activities, and outcomes. There are no changes to the information being collected during the period of this Revision request, however, there are expected reductions in the estimated burden per response for both the Work Plan and the Annual Report. These reductions are due to changes in the BGMIS, which has been modified to allow pre-population of some fields. Respondents will only need to update information already entered into the system, thus improving the efficiency of reporting and reducing the burden per response. In addition, the guidance documents for both information collections are being revised to improve their usability.

All information is collected electronically. There are no costs to respondents other than their time. The estimated annualized burden hours are 2,135.

Estimated Annualized Burden Hours
Respondents | Form name | Number of respondents | Number of responses per respondent | Average burden per response (in hours)
PHHS Block Grant Awardees | Work Plan | 61 | 1 | 20
| Annual Report | 61 | 1 | 15

Dated: May 27, 2011.
Daniel Holcomb,
Reports Clearance Officer, Centers for Disease Control and Prevention.

[FR Doc. 2011-13762 Filed 6-2-11; 8:45 am]

BILLING CODE 4163-18-P